DEPARTMENT OF AGRICULTURE

Forest Service

Intermountain Region, Payette National Forest, New Meadows Ranger District, Idaho; Lost Creek-Boulder Creek Landscape Restoration Project

AGENCY: Forest Service, USDA.

ACTION: Notice of intent to prepare an Environmental Impact Statement.

SUMMARY: The New Meadows Ranger District of the Payette National Forest will prepare an Environmental Impact Statement (EIS) for the Lost Creek-Boulder Creek Landscape Restoration Project. The Lost Creek-Boulder Creek Landscape Restoration Project area is located approximately 10 miles north and west of New Meadows, Idaho in in Boulder Creek, a tributary to the Little Salmon, and in the headwaters of the Weiser River and the West Fork of the Weiser River. It comprises approximately 80,000 acres and is within the boundaries of the New Meadows District of the Payette National Forest, in Adams County Idaho. The project is designed to improve wildlife habitat, reduce forest fuels, and improve watershed conditions through a variety of activities including commercial and noncommercial vegetation management and road system modifications and maintenance.

DATES: Comments concerning the project must be received by March 27, 2013. The draft environmental statement is expected in July 2013 and the final Environmental Impact Statement is expected in November 2013.

ADDRESSES: Send written comments to Keith Lannom, Forest Supervisor, 800 W. Lakeside Avenue, McCall, Idaho 83638. Comments may also be sent via email to comments-intermtn-payette-newmeadows@fs.fed.us, or via facsimile to 208-634-0744.

FOR FURTHER INFORMATION CONTACT: Ken Meyers, Project Team Leader, 208-347-0344. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project is to: (1) Improve habitat for specific wildlife species of concern such as the ESA-listed northern Idaho ground squirrel and white-headed woodpecker; (2) maintain and promote large tree forest structure, early seral species composition and forest resiliency; (3) reduce the risk of uncharacteristic and undesirable wildland fire; (4) restore habitat connectivity, especially in streams occupied by ESA-listed fishes and in designated critical habitat; (5) reduce road-related accelerated sediment and other road related impacts; (6) restore riparian vegetation and floodplain function; (7) better manage recreation use in the vicinity of Lost Valley Reservoir and Boulder Creek, and (8) contribute to the economic vitality of communities adjacent to the Payette National Forest.

Proposed Action

The Proposed Action includes vegetative treatments to improve wildlife habitat for the Northern Idaho Ground Squirrel and species that rely on habitat similar to the white-headed woodpecker, and to move vegetation toward the desired conditions specified in the Payette National Forest Plan. The project would harvest an estimated 20 million board feet (MMBF) of timber (all figures are approximations and may change as the project is refined). Commercial vegetative treatments would include commercial thin-free thin (13,700 acres); free thin-patch cut (1,700 acres); and commercial thin-mature plantations (8,400 acres). Non-commercial vegetative treatments include: Non-commercial thinning (16,000 acres); and prescribed burning (45,000 acres).

The proposal includes changes to the Forest System Road network to reduce road-related impacts to water quality and fish habitat, as well as reduce overall road density. Specific road actions include: 70 miles of system road decommissioning; 60 miles of roads moved to long term closure status (all currently closed to the public); 12 miles of seasonally open road converted to ATV trails; restoration of 90 miles of unauthorized roads; and relocation of 1½ half miles of road scheduled for decommissioning. The project includes 40 opportunities for replacement of culverts and other aquatic organism passages. No new roads will be built under this proposal.

Recreation actions will occur in the Lost Valley reservoir area and in the Boulder Creek subwatershed. Work includes rerouting trails, installing trail signs, installing toilets, improving and constructing trailhead parking, installing information kiosks, and graveling campsites and campground access roads. In addition to the open roads converted to ATV trails, twenty new miles of ATV routes will be designated and signed.

A range of reasonable alternatives will be considered. The no-action alternative will serve as a baseline for comparison of alternatives. The proposed action will be considered along with additional alternatives developed that meet the purpose and need and address major issues identified during scoping. Alternatives may have different amounts, locations, and types of project activities.

Responsible Official

The Forest Supervisor of the Payette National Forest is the Responsible Official.

Nature of Decision To Be Made

Based on the purpose and need for the proposed action, the Responsible Official will determine whether to proceed with the action, as proposed, as modified by another alternative or not at all. If an action alternative is selected, the Responsible Official will determine what design features, mitigation measures and monitoring to require.

Preliminary Issues

Preliminary issues for this project include effects on water quality, soil productivity, wildlife habitat, recreation, access management, and fish habitat.

Addresses

Additional project information is available on the Payette National Forest Web site at http://www.fs.fed.us/nepa/fs-usda-pop.php/?project=33830.

Scoping Process

This notice of intent initiates the scoping process, which guides the development of the Environmental Impact Statement. It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered, however.

Dated: February 13, 2013.
Keith Lannom,
Forest Supervisor.

[FR Doc. 2013-04182 Filed 2-22-13; 8:45 am]

BILLING CODE 3410-11-P